CORPORATION FOR NATIONAL AND COMMUNITY SERVICE

Advisory Board Meeting

The Corporation for National and Community Service gives notice under Public Law 92-463 (Federal Advisory Committee Act), that it will hold a meeting of the Civilian Community Corps (CCC) Advisory Board. The Board advises the Director of the Civilian Community Corps (CCC) concerning the administration of the program and assists in the development and administration of the Corps.

Time and Date: Thursday, June 5, 2003, 9 a.m. to 4 p.m.

Place: The meeting will be held at the Corporation for National and Community Service, 1201 New York Avenue, NW., Lobby Level Conference Room, Washington, DC 20525.

Status: Open.

Matters to be Considered: At this meeting, the Board will discuss issues related to diversity recruitment, resource development, the 10th year anniversary of the NCCC, and overall program operations.

For Further Information Contact: Ms. Merlene Mazyck, 1201 New York Avenue NW., 9th Floor, Washington, DC 20525. Telephone (202) 606-5000, ext. 137 (T.D.D. (202) 565-2799).

Accommodations: Upon request, meeting notices will be made available in alternative formats to accommodate visual and hearing impairments. Anyone who needs an interpreter or other accommodation should notify the Corporation's contact person by 5 p.m. Monday, June 1, 2003.

Dated: May 19, 2003.
Thomas L. Bryant,
Associate General Counsel.

[FR Doc. 03-12899 Filed 5-22-03; 8:45 am]

BILLING CODE 6050-$$-P